DEPARTMENT OF AGRICULTURE

Tongass National Forest Land and Resource Management Plan Amendment

AGENCY: Forest Service, USDA.

ACTION: Notice of Forest Plan Amendment approval.

SUMMARY: M. Earl Stewart, the Forest Supervisor for the Tongass National Forest, Alaska Region, signed the final Record of Decision (ROD) for the Tongass National Forest Land and Resource Management Plan Amendment (Forest Plan Amendment). The Final ROD documents the rationale for approving the Forest Plan Amendment and is consistent with the Reviewing Officer's response to objections and instructions.

DATES: The effective date of the Forest Plan Amendment is 30 days after publication of notice of Forest Plan Amendment approval in the newspaper of record, the Ketchikan Daily News. A supplemental notice will also be published in the Juneau Empire. To view the final ROD, final environmental impact statement (FEIS), FEIS errata, amended Forest Plan, and other related documents please visit the Tongass National Forest Plan Amendment Web site at http://www.fs.usda.gov/goto/R10/Tongass/PlanAmend.

FOR FURTHER INFORMATION CONTACT: Further information about the Tongass National Forest Plan can be obtained from Earl Stewart during normal office hours (weekdays, 8:00 a.m. to 4:30 p.m. Alaska Time) at the Tongass National Forest Supervisor's Office (Address: Tongass National Forest, 648 Mission Street, Ketchikan, AK 99901-6591); Phone/voicemail: (907) 228-6200.

Individuals who use telecommunication devices for the deaf (TDD) may call the Federal Information Relay Service (FIRS) at 1-800-877-8339 between 8:00 a.m. and 8:00 p.m., Eastern Standard Time, Monday through Friday.

SUPPLEMENTARY INFORMATION: The Forest Plan Amendment lays the foundation to address and balance the need for more stable contributions to the economic and social sustainability of Southeast Alaska. It supports both transitioning to a more economically, socially and ecologically sustainable timber program on the Tongass and promoting more sustainable and diverse local economies by encouraging renewable energy production.

The Forest Plan Amendment amends the 2008 Tongass Land and Resource Management Plan (2008 Forest Plan) and describes resource management practices, levels of resource production and management, and the availability and suitability of lands for different kinds of resource management. The Forest Plan Amendment guides all natural resource management projects and activities and establishes management direction for the Tongass National Forest. The Forest Plan Amendment was developed using the current Planning Rule, issued in 2012 and embodies the provisions of the National Forest Management Act, the implementing regulations, and other guiding documents.

The Forest Plan Amendment was shaped by best available science, current laws, and public participation including participation of a cooperating agency (U.S. Fish and Wildlife Service); consultation with Alaska Native tribes and Alaska Native Corporations; advice and recommendations from the Tongass Advisory Committee, a Federal Advisory Committee established by the U.S. Department of Agriculture; and significant public contributions from nine open house meetings, nine subsistence hearings, and the receipt of over 165,000 public comments.

Dated: November 30, 2016.
M. Earl Stewart,
Forest Supervisor, Tongass National Forest.

[FR Doc. 2016-29188 Filed 12-7-16; 8:45 am]

BILLING CODE 3411-15-P